DEPARTMENT OF ENERGY

Federal Energy Regulatory Commission

Combined Notice of Filings #2

December 24, 2013.

Take notice that the Commission received the following electric rate filings:

Docket Numbers: ER14-824-000.

Applicants: National Grid-Glenwood Energy Center, LLC.

Description: National Grid Glenwood Energy Ctr MBR Tariff Revisions Pursuant to Order 784 to be effective 2/23/2014.

Filed Date: 12/24/13.

Accession Number: 20131224-5023.

Comments Due: 5 p.m. ET 1/14/14.

Docket Numbers: ER14-825-000.

Applicants: National Grid-Port Jefferson Energy Center, LLC.

Description: National Grid Port Jefferson MBR Tariff Revisions Pursuant to Order 784 to be effective 2/23/2014.

Filed Date: 12/24/13.

Accession Number: 20131224-5024.

Comments Due: 5 p.m. ET 1/14/14.

Docket Numbers: ER14-826-000.

Applicants: PJM Interconnection, L.L.C.

Description: Notice of Cancellation of Original Service Agreement No. 3184; Queue No. W3-032 to be effective 12/24/2013.

Filed Date: 12/24/13.

Accession Number: 20131224-5038.

Comments Due: 5 p.m. ET 1/14/14.

Docket Numbers: ER14-827-000.

Applicants: Golden Spread Electric Cooperative, Inc.

Description: Golden Spread Electric Cooperative, Inc. submits response to Order No. 784 regarding compliance requirements.

Filed Date: 12/23/13.

Accession Number: 20131223-5272.

Comments Due: 5 p.m. ET 1/13/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2013-31399 Filed 12-31-13; 8:45 am]

BILLING CODE 6717-01-P